SECURITIES AND EXCHANGE COMMISSION

[File No. 500-1]

Advantage Life Products, Inc., and B-Teller, Inc. (n/k/a CA Goldfields, Inc.), Order of Suspension of Trading

February 3, 2011.

It appears to the Securities and Exchange Commission that there is a lack of current and accurate information concerning the securities of Advantage Life Products, Inc. because it has not filed any periodic reports since the period ended September 30, 2000.

It appears to the Securities and Exchange Commission that there is a lack of current and accurate information concerning the securities of B-Teller, Inc. (n/k/a CA Goldfields, Inc.) because it has not filed any periodic reports since the period ended October 31, 2005.

The Commission is of the opinion that the public interest and the protection of investors require a suspension of trading in the securities of the above-listed companies. Therefore, it is ordered, pursuant to Section 12(k) of the Securities Exchange Act of 1934, that trading in the securities of the above-listed companies is suspended for the period from 9:30 a.m. EST on February 3, 2011, through 11:59 p.m. EST on February 16, 2011.

By the Commission.
Jill M. Peterson,
Assistant Secretary.

[FR Doc. 2011-2744 Filed 2-3-11; 4:15 pm]

BILLING CODE 8011-01-P